DEPARTMENT OF THE INTERIOR

Bureau of Land Management

[LLWYD01000 L10400000 XI0000 LXSS016K0000]

Notice of Intent To Solicit Nominations: Pinedale Anticline Working Group, Wyoming

AGENCY: Bureau of Land Management, Interior.

ACTION: Notice of call for nominations.

SUMMARY: Nominations are being solicited for nine positions on the Pinedale Anticline Working Group (PAWG).

DATES: Individuals or groups wishing to submit a nomination must send the required information postmarked within 30 days from the date of publication of this notice in the Federal Register.

ADDRESSES: Nominations should be sent to Shelley Gregory, Bureau of Land Management, Pinedale Field Office, 1625 West Pine Street, P.O. Box 768, Pinedale, Wyoming 82941, or e-mailed to shelley_gregory@blm.gov.

FOR FURTHER INFORMATION CONTACT: Shelley Gregory, Bureau of Land Management, Pinedale Field Office, 1625 West Pine Street, P.O. Box 768, Pinedale, Wyoming 82941; 307-367-5328, shelley_gregory@blm.gov.

SUPPLEMENTARY INFORMATION: The PAWG was established by the Environmental Impact Statement (EIS) Record of Decision (ROD) for the Pinedale Anticline Project Area (PAPA) on July 27, 2000, and carried forward with the release of the ROD for the PAPA Supplemental EIS on September 12, 2008. The Secretary of the Interior renewed the PAWG charter on August 3, 2010.

The PAWG is a Federal Advisory Committee Act group which develops recommendations and provides advice to the BLM on mitigation, monitoring, and adaptive management in the PAPA.

Additional information about the PAWG, its membership and activities, and the nomination process can be found at: http://www.blm.gov/wy/st/en/field_offices/pinedale/pawg.html.

Nominations for the PAWG seats are being solicited from within the following categories:

Persons who:

1. Hold Federal grazing permits or leases within the area for which the PAWG is organized;

2. Represent interests associated with transportation or rights-of-way;

3. Represent energy and mineral development interests; or

4. Own adjacent land to the area for which the PAWG is organized.

Persons representing:

1. Nationally or regionally recognized environmental organizations;

2. Dispersed recreation interests (i.e., hunter, angler, outdoor recreation, off-highway vehicle users, or commercial recreation activities);

3. Archaeological and historical organizations or expertise; or

4. The affected public-at-large.

Persons who:

1. Hold State, county, or local elected office;

2. Are employed by a State Agency responsible for the management of natural resources, land, or water;

3. Are employed as academicians by a natural resource management or natural sciences organization (i.e., museum, university); or

4. Are employed by the local government.

PAWG duties and responsibilities are as follows:

1. Develop recommendations for the BLM regarding matters relating to monitoring and mitigation of oil and gas development and on adaptive management as described in the Supplemental EIS ROD for the Pinedale Anticline Project Area. At the direction of the Designated Federal Officer (DFO), the PAWG may review and analyze information, recommend issues for evaluation, and provide advice on the issues presented;

2. Review the implementation of construction and rehabilitation operations through an annual field inspection to provide advice to ensure that the mitigation measures are reasonable and effective;

3. Advise the BLM on working with stakeholders to develop or enhance resource management programs and objectives; and

4. Make recommendations on future PAWG resource management priorities.

Members are expected to attend all scheduled PAWG meetings. Members are appointed for 2-year terms and may be reappointed to additional terms at the discretion of the Secretary of the Interior.

Nomination packages should contain the following information:

1. Representative category;

2. Full name;

3. Business address and phone number;

4. Home address and phone number;

5. E-mail address;

6. Occupation title;

7. Qualifications (education, including colleges, degrees, major fields of study and/or training);

8. Complete work history with dates of employment;

9. Career highlights (significant related experience, civic and professional activities, elected offices, prior advisory committee experience, or career achievements related to the interest to be represented);

10. Experience in collaborative management techniques, such as long-term planning, management across jurisdictional boundaries, data sharing, information exchange, and partnerships;

11. Experience in data analysis and interpretation, problem identification, and evaluation of proposals;

12. Knowledge of issues involving oil and gas development;

13. List any leases, licenses, permits, contracts, or claims held by the nominee that involve lands or resources administered by the BLM;

14. A minimum of two letters of reference from group or organization to be represented;

15. Nominator's name, address, and telephone numbers (if not self-nominated); and

16. Date of nomination.

A group nominating more than one person should indicate its preferred order of appointment selection. Nominations received during the earlier Call for Nominations period will be considered after this closing date, so prior applicants do not need to submit a new form.

Note: The Obama Administration prohibits individuals who are currently Federally registered lobbyists to serve on all FACA and non-FACA boards, committees or councils.

Ruth Welch,
Associate State Director.

[FR Doc. 2010-27391 Filed 10-28-10; 8:45 am]

BILLING CODE 4310-22-P